DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

Applicant: Fort Worth Zoological Park, Fort Worth Texas PRT-021647.

The applicant requests a permit to import 4.1 captive born cheetah (Acinonyx jubatas) from the Hoedspruit Research And Breeding Facility, Republic of South Africa, for public display and breeding purposes to enhance the survival of the species.

Applicant: Kay Rosaire=Mowrey, Sarasota, FL, PRT-696911.

The applicant requests a permit to export, re-export and re-import tigers (Panthera tigris), and progeny of the animals currently held by the applicant and any animals acquired in the United States by the applicant to/from worldwide locations to enhance the survival of the species through conservation education. This notification covers activities conducted by the applicant over a three-year period.

Applicant: Hawthorn Corporation, Grayslake, IL, PRT-823832.

The applicant requests a permit to re-export and re-import captive-born Bengal tigers (Panthera tigris tigris), and progeny of the animals currently held by the applicant and any animals acquired in the United States by the applicant to/from worldwide locations to enhance the survival of the species through conservation education. This notification covers activities conducted by the applicant over a three year period.

Applicant: Robert C. Webster, Linville, NC, PRT-21989.

The applicant requests a permit to import the sport-hunted trophy of one male bontebok (Damaliscus pygargus dorcas). Culled from a captive herd maintained under the management program of the Republic of South Africa, for the purpose of enhancement of the survival of the species.

Applicant: Daniel Anderson, University of California, Davis, CA, PRT-766567.

The applicant requests renewal of his permit to import biological samples including feathers, eggs, bones, and blood of the California brown pelican (Pelecanus occidentalis) for contaminant analysis in the Gulf of California for the purpose of enhancement of the survival of the Species. This notification covers activities conducted by the applicant for a period of five years.

Applicant: Gladys Porter Zoo, Brownsville, TX, PRT-018992.

The applicant requests a permit to export one male and two female Philippine crocodile (Crocodylus mindorensis) to the Crocodile Farming Institute, Puerto Princesa, Philippines, for the purpose of a cooperative global effort to maintain genetic diversity in the captive population.

Written data or comments should be submitted to the Director, U.S. Fish and Wildlife Service, Office of Management Authority, 4401 North Fairfax Drive, Room 700, Arlington, Virginia 22203 and must be received by the Director within 30 days of the date of this publication.

Documents and other information submitted with the application are available for review, subject to the requirements of the Privacy Act and Freedom of Information Act, by any party who submits a written request for a copy of such documents to the above address within 30 days of the date of publication of this notice.

Dated: January 24, 2000.
Kristen Nelson,
Chief, Branch of Permits, Office of Management Authority.

[FR Doc. 00-2045 Filed 1-28-00; 8:45 am]

BILLING CODE 4310-55-P